DEPARTMENT OF LABOR

Employment and Training Administration

Job Training Partnership Act and Workforce Investment Act; Migrant and Seasonal Farmworker Employment and Training Advisory Committee; Notice of Meeting

Pursuant to section 10(a)(2) of the Federal Advisory Committee Act (Public Law 92-463) as amended, notice is hereby given of the scheduled meeting of the Migrant and Seasonal Farmworker Employment and Training Advisory Committee.

Time and Date: The meeting will begin at 9:00 a.m. on May 4, 2000, and continue until approximately 4:30 p.m., and will reconvene at 9:00 a.m. on May 5, 2000, and adjourn at close of business that day. Time is reserved from 1:30 to 3:00 p.m. on May 4, 2000 for participation and presentations by members of the public.

Place: Mexican American Unity Council Building, Conference Room, 2300 West Commerce Street, San Antonio, Texas 78207-3841.

Status: The meeting will be open to the public. Persons with disabilities who need special accommodations should contact the telephone number provided below no less than ten days before the meeting.

Matters to be Considered: The agenda will focus on the following topics:

Brief report of meeting of December 2, 3, 1999

Public Comment Session

Division of Seasonal Farmworker Program Report and Update

Presentation on Final Workforce Investment Act Regulations

Preparation of Strategic Plan for Advisory Committee

FOR FURTHER INFORMATION CONTACT: Alicia Fernandez-Mott, Chief, Division of Migrant and Seasonal Farmworker Programs, Office of National Programs, Employment and Training Administration, Room N-4641, 200 Constitution Ave., NW, Washington, DC 20210. Telephone: (202) 219-5500.

Signed at Washington, DC, this 21st day of March, 2000.
Alicia Fernandez-Mott,
Acting Director, Office of National Programs, Employment and Training Administration.

[FR Doc. 00-7487 Filed 3-24-00; 8:45 am]

BILLING CODE 4510-30-M